OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 6.6 and 213.103.

FOR FURTHER INFORMATION CONTACT: C. Penn, Group Manager, Executive Resources Services Group, Center for Human Resources, Division for Human Capital Leadership and Merit System Accountability, 202-606-2246.

SUPPLEMENTARY INFORMATION: Appearing in the listing below are the individual authorities established under Schedules A, B, and C between September 1, 2007, and September 30, 2007. Future notices will be published on the fourth Tuesday of each month, or as soon as possible thereafter. A consolidated listing of all authorities as of June 30 is published each year.

Schedule A

No Schedule A appointments were approved for September 2007.

Schedule B

No Schedule B appointments were approved for September 2007.

Schedule C

The following Schedule C appointments were approved during September 2007.

Section 213.3303 Executive Office of the President

Office of Management and Budget

BOGS70020 Confidential Assistant to the Administrator, Office of Federal Procurement Policy. Effective September 11, 2007.

BOGS70021 Confidential Assistant to the Controller, Office of Federal Financial Management. Effective September 18, 2007.

Section 213.3304 Department of State

DSGS61252 Special Assistant to the Assistant Secretary for Economic and Business Affairs. Effective September 7, 2007.

DSGS61255 Staff Assistant to the Assistant Secretary for Public Affairs. Effective September 11, 2007.

DSGS66856 Public Affairs Specialist to the Assistant Secretary for Public Affairs. Effective September 11, 2007.

DSGS61258 Special Assistant to the Principal Deputy Assistant Secretary. Effective September 14, 2007.

DSGS61257 Special Assistant to the Legal Adviser. Effective September 19, 2007.

DSGS61261 Staff Assistant to the Assistant Secretary, Bureau of International Narcotics and Law Enforcement Affairs. Effective September 26, 2007.

DSGS61275 Special Assistant to the Under Secretary for Arms Control and Security Affairs. Effective September 26, 2007.

DSGS61253 Protocol Officer (Visits) to the Chief of Protocol. Effective September 28, 2007.

DSGS61254 Senior Public Affairs Officer to the Chief of Protocol. Effective September 28, 2007.

Section 213.3305 Department of the Treasury

DYGS00453 Media Coordinator to the Assistant Secretary (Public Affairs) and Director of Policy Planning. Effective September 7, 2007.

DYGS00250 Director, Public Affairs to the Deputy Assistant Secretary (Public Affairs). Effective September 20, 2007.

Section 213.3306 Department of Defense

DDGS17092 Supervisory Staff Assistant to the Deputy Assistant Secretary of Defense (Near East and South Asian Affairs). Effective September 4, 2007.

DDGS17100 Public Affairs Specialist to the Assistant Secretary of Defense Public Affairs. Effective September 10, 2007.

DDGS17083 Confidential Assistant to the Special Assistant to the Secretary and Deputy Secretary of Defense. Effective September 14, 2007.

DDGS17097 Staff Assistant to the Principal Deputy Under Secretary of Defense for Policy. Effective September 14, 2007.

DDGS17101 Public Affairs Specialist to the Assistant Secretary of Defense, Public Affairs. Effective September 14, 2007.

DDGS17102 Staff Assistant to the Special Assistant to the Secretary of Defense for White House Liaison. Effective September 14, 2007.

DDGS17103 Public Affairs Specialist to the Assistant Secretary of Defense Public Affairs. Effective September 14, 2007.

DDGS17106 Special Assistant to the Assistant Secretary of Defense (Legislative Affairs). Effective September 17, 2007.

DDGS17107 Special Assistant to the Assistant Secretary of Defense (Legislative Affairs). Effective September 17, 2007.

DDGS17105 Public Affairs Specialist to the Assistant Secretary of Defense, Public Affairs. Effective September 20, 2007.

DDGS17104 Defense Fellow to the Special Assistant to the Secretary of Defense for White House Liaison. Effective September 24, 2007.

DDGS17111 Special Assistant to the Principal Deputy Assistant Secretary of Defense (Global Security Affairs). Effective September 24, 2007.

Section 213.3308 Department of the Navy

DNGS02224 Confidential Assistant to the Assistant Secretary of Navy (Installations and Environment). Effective September 6, 2007.

DNGS07355 Director for Strategic Initiatives to the Special Assistant to the Secretary. Effective September 26, 2007.

DNGS07368 Staff Assistant to the Special Assistant to the Secretary. Effective September 26, 2007.

Section 213.3310 Department of Justice

DJGS00094 Counsel to the Assistant Attorney General. Effective September 6, 2007.

DJGS00327 Public Affairs Specialist to the Director, Office of Public Affairs. Effective September 7, 2007.

DJGS00359 Public Affairs Specialist to the Director, Office of Public Affairs. Effective September 7, 2007.

DJGS00323 Counsel to the Principal Deputy Assistant Attorney General. Effective September 24, 2007.

DJGS00405 Special Assistant to the Assistant Attorney General, Office of Justice Programs. Effective September 28, 2007.

Section 213.3311 Department of Homeland Security

DMGS00715 Executive Officer to the Deputy Administrator for National Preparedness. Effective September 7, 2007.

DMGS00708 Advisor to the Assistant Secretary for Infrastructure Protection. Effective September 12, 2007.

DMGS00718 Senior Advisor to the Director, Bureau of Citizenship and Immigration Services. Effective September 18, 2007.

DMGS00713 Special Assistant to the Chief of Staff. Effective September 26, 2007.

DMGS00716 Associate Executive Secretary for White House/Interagency Coordination and Briefing Books to the Executive Secretary. Effective September 26, 2007.

Section 213.3313 Department of Agriculture

DAGS00919 Special Assistant to the Administrator, Food and Nutrition Service. Effective September 14, 2007.

DAGS00920 Confidential Assistant to the Administrator. Effective September 25, 2007.

Section 213.3314 Department of Commerce

DCGS00193 Senior Advisor to the Deputy Assistant Secretary for Industry Analysis. Effective September 7, 2007.

DCGS00468 Special Assistant to the Under Secretary of Commerce for Industry and Security. Effective September 14, 2007.

DCGS00473 Special Assistant to the General Counsel. Effective September 20, 2007.

DCGS00553 Confidential Assistant to the Assistant Secretary for Export Enforcement. Effective September 20, 2007.

DCGS00562 Policy Advisor to the Assistant to the Secretary and Director, Office of Policy and Strategic Planning. Effective September 20, 2007.

DCGS00262 Special Assistant to the Deputy Assistant Secretary for Services. Effective September 28, 2007.

DCGS00547 Confidential Assistant to the Deputy Under Secretary and Deputy Director of U.S. Patent and Trademark Office. Effective September 28, 2007.

DCGS60637 Special Assistant to the Executive Director for Trade Promotion and Outreach. Effective September 28, 2007.

Section 213.3315 Department of Labor

DLGS60137 Staff Assistant to the Assistant Secretary for Public Affairs. Effective September 18, 2007.

DLGS60043 Special Assistant to the Assistant Secretary for Occupational Safety and Health. Effective September 19, 2007.

DLGS60170 Special Assistant to the Director, Office of Faith Based and Community Initiatives. Effective September 19, 2007.

DLGS60255 Counselor to the Deputy Secretary of Labor. Effective September 19, 2007.

DLGS60042 Special Assistant to the Assistant Secretary for Public Affairs. Effective September 26, 2007.

Section 213.3316 Department of Health and Human Services

DHGS60016 Confidential Assistant to the Director, Center for Faith Based and Community Initiatives. Effective September 7, 2007.

DHGS60542 Confidential Assistant to the Administrator Centers for Medicare and Medicaid Services. Effective September 7, 2007.

DHGS60627 Confidential Assistant to the Administrator, Substance Abuse and Mental Health Services. Effective September 26, 2007.

Section 213.3317 Department of Education

DBGS00637 Confidential Assistant to the Assistant Secretary for Legislation and Congressional Affairs. Effective September 6, 2007.

DBGS00636 Confidential Assistant to the Assistant Secretary for Postsecondary Education. Effective September 7, 2007.

DBGS00638 Confidential Assistant to the Chief of Staff. Effective September 7, 2007.

DBGS00642 Confidential Assistant to the Assistant Deputy Secretary for Safe and Drug-Free Schools. Effective September 12, 2007.

DBGS00643 Confidential Assistant to the Assistant Secretary, Office of Communications and Outreach. Effective September 12, 2007.

DBGS00647 Special Assistant to the Assistant Secretary, Office of Communications and Outreach. Effective September 21, 2007.

DBGS00648 Confidential Assistant to the Assistant Secretary for Civil Rights. Effective September 21, 2007.

DBGS00639 Special Assistant to the Director, White House Initiative on Hispanic Education. Effective September 28, 2007.

DBGS00641 Chief of Staff to the Chief Financial Officer. Effective September 28, 2007.

DBGS00649 Confidential Assistant to the Director, Scheduling and Advance Staff. Effective September 28, 2007.

Section 213.3318 Environmental Protection Agency

EPGS0702 Special Assistant to the Administrator/Executive Assistant to the Assistant Administrator for International Activities. Effective September 12, 2007.

Section 213.3323 Federal Communications Commission

FCGS07224 Assistant Chief to the Chief, Office of Strategic Planning and Policy Analysis. Effective September 7, 2007.

Section 213.3331 Department of Energy

DEGS00612 Special Assistant to the Director, Office of Scheduling and Advance. Effective September 7, 2007.

DEGS00613 Senior Advisor to the Director, Office of Scheduling and Advance. Effective September 7, 2007.

DEGS00614 Trip Coordinator to the Director, Office of Scheduling and Advance. Effective September 7, 2007.

DEGS00616 Special Assistant to the Assistant Secretary for Policy and International Affairs. Effective September 19, 2007.

Section 213.3332 Small Business Administration

SBGS00632 Speechwriter to the Associate Administrator for Communications and Public Liaison. Effective September 5, 2007.

SBGS00583 Deputy Assistant Administrator for Policy and Strategic Planning to the Associate Administrator for Policy. Effective September 6, 2007.

SBGS00633 Congressional Liaison to the Assistant Administrator for Congressional and Legislative Affairs. Effective September 7, 2007.

SBGS00619 Senior Policy Analyst to the Assistant Administrator for Policy and Strategic Planning. Effective September 18, 2007.

Section 213.3337 General Services Administration

GSGS00165 Senior Advisor to the Chief of Staff. Effective September 12, 2007.

GSGS00180 Confidential Assistant to the Associate Administrator for Congressional and Intergovernmental Affairs. Effective September 18, 2007.

GSGS00099 Senior Advisor to the Regional Administrator, Region 3, Philadelphia, Pennsylvania. Effective September 28, 2007.

Section 213.3342 Export-Import Bank

EBSL45010 Senior Vice President and General Counsel to the President and Chairman. Effective September 25, 2007.

Section 213.3379 Commodity Futures Trading Commission

CTOT00082 Chief of Staff to the Chairperson. Effective September 18, 2007.

CTOT00097 Administrative Assistant to the Commissioner. Effective September 24, 2007.

Section 213.3384 Department of Housing and Urban Development

DUGS60472 Deputy Assistant Secretary for Legislative Relations to the Assistant Secretary for Congressional and Intergovernmental Relations. Effective September 6, 2007.

DUGS60534 Deputy Director to the Director, Center for Faith Based and Community Initiatives. Effective September 11, 2007.

DUGS60596 Staff Assistant to the General Deputy Assistant Secretary for Public Affairs. Effective September 28, 2007.

Section 213.3391 Office of Personnel Management

PMGS00043 White House Liaison to the Chief of Staff and Director of External Affairs. Effective September 25, 2007.

PMGS00070 Deputy White House Liaison to the Chief of Staff and Director of External Affairs. Effective September 25, 2007.

Section 213.3394 Department of Transportation

DTGS60294 Counselor to the Under Secretary of Transportation for Policy. Effective September 12, 2007.

DTGS60369 Deputy Assistant Secretary for Governmental Affairs to the Assistant Secretary for Governmental Affairs. Effective September 24, 2007.

Authority: 5 U.S.C. 3301 and 3302; E.O. 10577, 3 CFR 1954-1958 Comp., p. 218.

U.S. Office of Personnel Management.
Howard C. Weitzman,
Deputy Director.

[FR Doc. E7-21767 Filed 11-5-07; 8:45 am]

BILLING CODE 6325-39-P